DEPARTMENT OF ENERGY

Federal Energy Regulatory Commission

Combined Notice of Filings #1

Take notice that the Commission received the following electric corporate filings:

Docket Numbers: EC15-53-000.

Applicants: All Dams Generation, LLC, Lake Lynn Generation, LLC, PE Hydro Generation, LLC.

Description: Application for Authorization Under Section 203 of the Federal Power Act and Request for Waivers, Confidential Treatment, and Expedited Action of All Dams Generation, LLC, et. al.

Filed Date: 12/15/14.

Accession Number: 20141215-5311.

Comments Due: 5 p.m. ET 1/5/15.

Take notice that the Commission received the following electric rate filings:

Docket Numbers: ER13-366-005.

Applicants: Southwest Power Pool, Inc.

Description: Compliance filing per 35: Order No. 1000 Compliance Revisions—ER13-366-002 and ER13-366-003 to be effective 3/30/2014.

Filed Date: 12/15/14.

Accession Number: 20141215-5245.

Comments Due: 5 p.m. ET 1/5/15.

Docket Numbers: ER15-596-000.

Applicants: PJM Interconnection, L.L.C.

Description: Report Filing: Errata to Transmittal Letter in Docket No. ER15-596-000 to be effective N/A.

Filed Date: 12/15/14.

Accession Number: 20141215-5247.

Comments Due: 5 p.m. ET 1/5/15.

Docket Numbers: ER15-633-000.

Applicants: Southwest Power Pool, Inc.

Description: § 205(d) rate filing per 35.13(a)(2)(iii): Revisions to Attach AE (MPL) Addendum 1—VRL and Market-to-Market Coordination to be effective 3/1/2015.

Filed Date: 12/15/14.

Accession Number: 20141215-5223.

Comments Due: 5 p.m. ET 1/5/15.

Docket Numbers: ER15-634-000.

Applicants: Cottonwood Solar, LLC.

Description: Baseline eTariff Filing per 35.1: Baseline—Cottonwood Solar, LLC MBR Tariff to be effective 12/31/9998.

Filed Date: 12/15/14.

Accession Number: 20141215-5236.

Comments Due: 5 p.m. ET 1/5/15.

Docket Numbers: ER15-635-000.

Applicants: Westar Energy, Inc.

Description: § 205(d) rate filing per 35.13(a)(2)(iii): KEPCo Revision to Attachment A—Points of Receipt to be effective 1/15/2015.

Filed Date: 12/15/14.

Accession Number: 20141215-5283.

Comments Due: 5 p.m. ET 1/5/15.

Docket Numbers: ER15-636-000.

Applicants: Westar Energy, Inc.

Description: § 205(d) rate filing per 35.13(a)(2)(iii): Kaw Valley Electric Cooperative, Revision-Attachment A, Points of Receipt to be effective 1/31/2015.

Filed Date: 12/16/14.

Accession Number: 20141216-5004.

Comments Due: 5 p.m. ET 1/6/15.

Docket Numbers: ER15-637-000.

Applicants: PJM Interconnection, L.L.C.

Description: § 205(d) rate filing per 35.13(a)(2)(iii): Service Agreement No. 3183; Queue No. W3-029 to be effective 11/19/2014.

Filed Date: 12/16/14.

Accession Number: 20141216-5161.

Comments Due: 5 p.m. ET 1/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2014.
Nathaniel J. Davis, Sr.,
Deputy Secretary.

[FR Doc. 2014-29898 Filed 12-19-14; 8:45 am]

BILLING CODE 6717-01-P